DEPARTMENT OF ENERGY

Federal Energy Regulatory Commission

[Project Nos. 13212-001;13211-001]

Kenai Hydro, LLC; Notice of Scoping Meetings, Environmental Site Review, and Soliciting Scoping Comments

May 11, 2010.

Take notice that the following hydroelectric application has been filed with the Commission and is available for public inspection:

a. Type of Application: Original Minor License.

b. Project Nos.: P-13212-001 and P-13211-001.

c. Date Filed: August 6, 2009.

d. Applicant: Kenai Hydro, LLC.

e. Name of Project: Grant Lake/Falls Creek Hydroelectric Project.

f. Location: Grant Lake, Grand Creek, and Falls Creek on the Kenai Peninsula, near the community of Moose Pass, Alaska. The project would occupy lands within the Chugach National Forest.

g. Filed Pursuant to: Federal Power Act, 16 U.S.C. 791(a)-825(r).

h. Applicant Contact: Mr. Brad Zubeck, Kenai Hydro, LLC, 3977 Lake Street, Homer, Alaska 99603; (907) 335-6204.

i. FERC Contact: Mark Ivy at (202) 502-6156 or mark.ivy @ferc.gov.

j. Deadline for filing scoping comments: July 6, 2010.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. The project would consist of: a new 10-foot-high, 120-foot-wide concrete gravity dam on Grant Lake, with a 60-foot-wide spillway section at elevation 709 feet mean sea level (msl); the 1,790-acre Grant Lake with active storage of 48,000 acre-feet of storage between 675 and 706 feet msl; a new multi-level intake at Grant Lake; a new 2,800-foot-long, 10-foot-high horseshoe power tunnel; a new 8-foot-diameter, 110-foot-high surge tank; a new 650-foot-long, 66-inch-diameter steel penstock; a new powerhouse containing two Francis generating units with total installed capacity of 4.5 MW; a new 200-foot-long open channel tailrace; a 3.5-mile-long, overhead or underground transmission line at 115, 69, or 24.9-kilovolt (kV), or twelve 15-kV; a new 3.4-mile-long access road; and appurtenant facilities.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

You may also register online at http://www.ferc.gov/docs-filing/esubscription.asp to be notified via e-mail of new filings and issuances related to this or other pending projects. For assistance, contact FERC Online Support.

n. Scoping Process.

The Commission intends to prepare an Environmental Assessment (EA) on the project in accordance with the National Environmental Policy Act. The EA will consider both site-specific and cumulative environmental impacts and reasonable alternatives to the proposed action.

Scoping Meetings

FERC staff will conduct one daytime scoping meeting and one evening scoping meeting. The daytime scoping meeting will focus on resource agency and non-governmental organization concerns, while the evening scoping meeting is primarily for public input. All interested individuals, organizations, and agencies are invited to attend one or both of the meetings, and to assist the staff in identifying the scope of the environmental issues that should be analyzed in the EA. The times and locations of these meetings are as follows:

Evening Scoping Meeting

Date: Wednesday, June 2, 2010.

Time: 7 p.m. (Alaska ST).

Place: Moose Pass Community Hall.

Address: Mile 29.5 Seward Highway, Moose Pass, AK 99631.

Daytime Scoping Meeting

Date: Thursday, June 3, 2010.

Time: 10 a.m. (Alaska ST).

Place: Moose Pass Community Hall.

Address: Mile 29.5 Seward Highway, Moose Pass, AK 99631.

Copies of the Scoping Document 1 (SD1) outlining the subject areas to be addressed in the EA were distributed to the parties on the Commission's mailing list. Copies of the SD1 will be available at the scoping meeting or may be viewed on the Web at http://www.ferc.gov using the “eLibrary” link [see item (m) above].

Environmental Site Review

The Applicant and FERC staff will conduct a project environmental site review beginning at 8 a.m. (Alaska ST) on June 2, 2010. All interested individuals, organizations, and agencies are invited to attend. Participants should meet at Scenic Mountain Air boat launch, 31702 Depot Road, Moose Pass, AK 99631. Participants should be in good health and prepared/able to hike without assistance in unimproved trail conditions for the entire day (± 3 miles with 200 feet of elevation gain). Participants should also pack their own lunch, snacks and water, wear waterproof, rugged footwear, and be prepared for inclement and potentially cold weather conditions. Anyone with questions about the environmental site review (or needing directions) should contact Jenna Borovansky at (208) 765-1413 or jborovansky@longviewassociates.com. Those individuals planning to participate in the environmental site review should notify Ms. Borovansky of their intent, no later than May 23, 2010.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Kimberly D. Bose,
Secretary.

[FR Doc. 2010-11783 Filed 5-17-10; 8:45 am]

BILLING CODE 6717-01-P